DEPARTMENT OF THE INTERIOR

National Park Service

National Register of Historic Places; Weekly Listing of Historic Properties

Pursuant to (36CFR60.13(b,c)) and (36CFR63.5), this notice, through publication of the information included herein, is to apprise the public as well as governmental agencies, associations and all other organizations and individuals interested in historic preservation, of the properties added to, or determined eligible for listing in, the National Register of Historic Places from August 9, to August 14, 2009.

For further information, please contact Edson Beall via: United States Postal Service mail, at the National Register of Historic Places, 2280, National Park Service, 1849 C St. NW., Washington, DC 20240; in person (by appointment), 1201 Eye St. NW., 8th floor, Washington DC 20005; by fax, 202-371-2229; by phone, 202-354-2255; or by e-mail, Edson_Beall@nps.gov.

Dated: October 6, 2009.
J. Paul Loether,
Chief, National Register of Historic Places/National Historic Landmarks Program.

KEY: State, County, Property Name, Address/Boundary, City, Vicinity, Reference Number, Action, Date, Multiple Name

ALABAMA

Jefferson County

Belcher-Nixon Building, 1728 29th St. Ensley, Birmingham, 09000603, Listed, 8/12/09

Lee County

Darden, Dr. J.W., House, 1323 Auburn St., Opelika, 09000605, Listed, 8/12/09

Winston County

Feldman's Department Store, 800 20th St., Haleyville, 09000607, Listed, 8/12/09

ARIZONA

Maricopa County

Bennitt Mansion, 126 E. County Club Dr., Phoenix, 09000609, Listed, 8/12/09

DISTRICT OF COLUMBIA

District of Columbia State Equivalent,

Surratt, Mary E., House, 604 H St., NW, Washington, 04000118, Listed, 8/11/09

GEORGIA

De Kalb County

Donaldson-Bannister House and Cemetery, 4831 Chamblee-Dunwoody Rd., Dunwoody vicinity, 09000585, Listed, 8/09/09

HAWAII

Honolulu County

Tantalus—Round Top Road, Tantalus Dr., Round Top Dr., Honolulu vicinity, 08000373, Listed, 8/14/09

IOWA

Guthrie County

Garst, Roswell and Elizabeth, Farmstead Historic District, 1390 IA 141, Coon Rapids vicinity, 09000610, Listed, 8/12/09

MASSACHUSETTS

Essex County

Samuel Brown School, 200 Lynn St., Peabody, 09000611, Listed, 8/12/09

Suffolk County

Evergreen Cemetery, 2060 Commonwealth Ave., Boston, 09000612, Listed, 8/14/09

TENNESSEE

Putnam County

White Plains, 2700 Old Walton Rd., Cookeville vicinity, 09000538, Listed, 8/11/09

VIRGINIA

Bedford County

Liberty Hall, 12000 E. Lynchburg Salem Turnpike, Forest vicinity, 09000613, Listed, 8/12/09

Fauquier County

Orlean Historic District, Area including parts of John Barnton Payne and Leeds Manor Rds., Orlean, 09000615, Listed, 8/14/09

Fauquier County

Woodside, 9525 Maidstone Rd., Delaplane vicinity, 09000616, Listed, 8/12/09

Goochland County

First Union School, 1522 Old Mill Rd., Crozier, 09000614, Listed, 8/12/09 (Rosenwald Schools in Virginia MPS)

Salem Independent City

Valley Railroad Bridge, 1002 Newman Dr., Salem, 09000617, Listed, 8/12/09

[FR Doc. E9-24957 Filed 10-15-09; 8:45 am]

BILLING CODE P